DEPARTMENT OF HOUSING AND URBAN DEVELOPMENT

[Docket No. FR-5100-FA-18]

Announcement of Funding Awards for the Resident Opportunity and Self-Sufficiency (ROSS)—Family and Homeownership Program for Fiscal Year 2007

AGENCY: Office of Public and Indian Housing, HUD.

ACTION: Announcement of Funding Awards.

SUMMARY: In accordance with Section 102(a)(4)(C) of the Department of Housing and Urban Development Reform Act of 1989, this announcement notifies the public of funding decisions made by the Department for funding under the Fiscal Year (FY) 2007 Notice of Funding Availability (NOFA) for the Resident Opportunity and Self-Sufficiency Family and Homeownership Program funding for FY2007. This announcement contains the consolidated names and addresses of award recipients selected for funding based on the rating and ranking of all applications and the allocation of funding available for each state.

FOR FURTHER INFORMATION CONTACT: For questions concerning the FY2007 ROSS Family and Homeownership awards, contact the Office of Public and Indian Housing's Grants Management Center, Acting Director, J. David Reeves, Department of Housing and Urban Development, Washington, DC, telephone (202) 475-8906. For the hearing or speech impaired, these numbers may be accessed via TTY (text telephone) by calling the Federal Information Relay Service at 1 (800) 877-8339. (Other than the “800” TTY number, these telephone numbers are not toll-free.)

SUPPLEMENTARY INFORMATION: The authority for the $30,000,000 in one-year budget authority for ROSS Family and Homeownership program is found in the Departments of Veteran Affairs and Housing and Urban Development, and Independent Agencies Appropriations Act, FY 2007 (Pub. L. 110-5). The allocation of housing assistance budget authority is pursuant to the provisions of 24 CFR part 791, subpart D, implementing section 213(d) of the Housing and Community Development Act of 1974, as amended.

This program is intended to promote the development of local strategies to coordinate the use of assistance under the ROSS program with public and private resources to enable participating families to achieve economic independence and self-sufficiency. A Public and Indian Housing Program Coordinator assures that program participants are linked to the supportive services they need to achieve self-sufficiency.

The FY2007 awards announced in this Notice were selected for funding in a competition announced in a Federal Register NOFA published on March 13, 2007 (71 FR 3382). Applications were scored based on the selection criteria in that NOFA and funding selections made based on the rating and ranking of applications within each state.

In accordance with Section 102(a)(4)(C) of the Department of Housing and Urban Development Reform Act of 1989 (103 Stat. 1987, 42 U.S.C. 3545), the Department is publishing the names, addresses, and amounts of the 109 awards made under the ROSS Family and Homeownership Program competition.

Dated: October 31, 2008.
Paula O. Blunt,
General Deputy Assistant Secretary for Public and Indian Housing.

Appendix A—Fiscal Year 2007 Funding Awards for the Ross Family and Homeownership Program
Recipient | Address/city/state/zip code | Amount
Alaska Housing Finance Corporation | P.O. Box 101020, Anchorage, AK 99510-1020 | $309,510
Aleutian Housing Authority | 4000 Old Seward Highway, Suite 202, Anchorage, AK 99503-6079 | 200,000
Tlingit-Haida Regional Housing Authority | P.O. Box 32237, Juneau, AK 99801 | 249,975
Mobile Housing Board | 151 South Claiborne Street, Mobile, AL 36602 | 500,000
Prichard Housing Authority | 4559 St. Stephens Road, Eight Mile, AL 36613 | 250,000
The Housing Authority of the City of Huntsville | 200 Washington Street, Huntsville, AL 35804-0486 | 350,000
Tuscaloosa Housing Authority | 2808 10th Avenue, Tuscaloosa, AL 35403 | 350,000
City of Phoenix Housing Department | 251 West Washington, 4th Floor, Phoenix, AZ 85003 | 350,000
White Mountain Apache Housing Authority | P.O. Box 1270, 50 West Chinatown Road, Whiteriver, AZ 85941 | 349,999
Housing Authority County of Fresno | P.O. Box 11985, 1331 Fulton Mall, Fresno, CA 93776-1985 | 350,000
Housing Authority of the City of Fresno | P.O. Box 11985, 1331 Fulton Mall, Fresno, CA 93776-1985 | 350,000
Housing Authority of the City of Los Angeles | 2600 Wilshire Boulevard Third Floor, Los Angeles, CA 90057 | 500,000
Housing Authority of the City of Oxnard | 435 South ‘D' Street, Oxnard, CA 93030 | 250,000
Housing Authority of the County of Kern | 601-24th Street, Bakersfield, CA 93301 | 249,932
Housing Authority of the County of San Diego | 3989 Ruffin Road, San Diego, CA 92123-1815 | 250,000
Imperial Valley Housing Authority | 1401 D Street, Brawley, CA 92227 | 250,000
Housing Authority of the City & County of Denver | 777 Grant Street, Denver, CO 80203 | 350,000
Housing Authority of the City of Pueblo | 1414 North Santa Fe Avenue, 10th Floor, Pueblo, CO 81003 | 350,000
Housing Authority of the City of Meriden | 22 Church Street, Meriden, CT 06451 | 250,000
Housing Authority of the City of New Haven | P.O. Box 1912, 360 Orange Street, New Haven, CT 06509-1912 | 348,223
ACORN Institute | 739 8th Street, SE, Washington, DC 20003 | 124,324
Housing Authority of Lakeland | 430 Hartsell Avenue, Lakeland, FL 33815 | 250,000
Housing Authority of the City of Fort Myers | 4224 Michigan, Fort Myers, FL 33916 | 250,000
Housing Authority of the City of Tampa | 1514 Union Street, Tampa, FL 33607 | 350,000
Palatka Housing Authority | 400 North 15th Street, Palatka, FL 32178 | 210,000
West Palm Beach Housing Authority | 1715 Division Avenue, West Palm Beach, FL 33407 | 250,000
Housing Authority of the City of College Park, Georgia | 2000 Princeton Avenue, College Park, GA 30337 | 250,000
Housing Authority of the City of Cordele | 401 South 10th Street, Cordele, GA 31015 | 250,000
Macon Housing Authority | 2015 Felton Avenue, Macon, GA 31201 | 350,000
Northwest Georgia Housing Authority | 800 North Fifth Avenue, Rome, GA 30162 | 350,000
Parents And Children Together | 1485 Linapuni Street, Suite 105, Honolulu, HI 96819 | 375,000
Eastern Iowa Regional Housing Authority | 3999 Pennsylvania Avenue, Suite 200, Dubuque, IA 52002 | 204,000
Chicago Housing Authority | 60 East Van Buren, Chicago, IL 60605 | 999,593
Rock Island Housing Authority | 227 21st Street, Rock Island, IL 61201 | 249,432
Rockford Housing Authority | 223 South Winnebago Street, Rockford, IL 61102 | 350,000
Housing Authority of the City of Muncie | 409 East First Street, Muncie, IN 47302 | 250,000
Indianapolis Housing Agency | 1919 North Meridian Street, Indianapolis, IN 46202 | 350,000
Lawrence-Douglas County Housing Authority | 1600 Haskell Avenue, Lawrence, KS 66044 | 250,000
Campbellsville Housing & Redevelopment Authority | 400 Ingram Avenue, Campbellsville, KY 42718 | 250,000
Housing Authority of Covington | 2300 Madison Avenue, Covington, KY 41014 | 250,000
Housing Authority of Martin | P.O. Box 806, 109 Raymond Griffith Drive, #1101, Martin, KY 41649 | 250,000
Housing Authority of Maysville | 600 Clark Street, Maysville, KY 41056 | 250,000
Lebanon Housing Authority | 101 Hamilton Heights, Lebanon, KY 40033 | 250,000
Louisville Metro Housing Authority | 420 South Eighth Street, Louisville, KY 40203 | 500,000
Cambridge Housing Authority | 675 Massachusetts Avenue, Cambridge, MA 02139 | 350,000
Holyoke Housing Authority | 475 Maple Street, Suite One, Holyoke, MA 01040 | 250,000
Quincy Housing Authority | 80 Clay Street, Quincy, MA 02170-2799 | 250,000
Housing Authority of Baltimore City | 417 East Fayette Street, Baltimore, MD 21202 | 731,429
Housing Authority of the City of Frederick | 209 Madison Street, Frederick, MD 21701 | 250,000
Housing Opportunities Commission of Montgomery County | 10400 Detrick Avenue, Kensington, MD 20895 | 350,000
Housing Authority of the City of Brewer | 15 Colonial Circle, Suite 1, Brewer, ME 04412 | 250,000
Portland Housing Authority | 14 Baxter Boulevard, Portland, ME 04101 | 250,000
Manistee Housing Commission | 237 6th Avenue, Manistee, MI 49660 | 250,000
Port Huron Housing Commission | 905 Seventh Street, Port Huron, MI 48060 | 249,000
Housing Authority of St. Louis County | 8865 Natural Bridge Road, St. Louis, MO 63121 | 250,000
St. Louis Housing Authority | 4100 Lindell Boulevard, St. Louis, MO 63108 | 350,000
Natchez Housing Authority | 2 Auburn Avenue, Natchez, MS 39120 | 250,000
The Housing Authority of the City of Meridian | 2425 E Street, Meridian, MS 39301 | 350,000
Northern Cheyenne Tribe | P.O. Box 128, 600 Cheyenne Avenue, Lame Deer, MT 59043-0128 | 168,000
City of Concord Housing Department | P.O Box 308, 283 Harold Goodman Circle, Concord, NC 28026-0308 | 250,000
Housing Authority of the City of Greenville | 1103 Broad Street, Greenville, NC 27834 | 247,724
Statesville Housing Authority | 110 West Allison Street, Statesville, NC 28677 | 250,000
The Housing Authority of the City of Durham | P.O. Box 1726, 330 East Main Street, Durham, NC 27701 | 350,000
Troy Housing Authority | 408 South Main Street, Troy, NC 27371 | 135,210
Fargo Housing and Redevelopment Authority | 325 Broadway, Fargo, ND 58102 | 249,990
Housing Authority of the City of Omaha | 540 South 27th Street, Omaha, NE 68106-1549 | 349,387
Kearney Housing Agency | 2715 Avenue I OFC, Kearney, NE 68847 | 47,384
Atlantic City Housing Authority | 227 North Vermont Avenue, 17th Floor, P.O. Box 1258, Atlantic City, NJ 08401 | 250,000
City of Long Branch Housing Authority | P.O. Box 337, Garfield Court Administrative Office, Long Branch, NJ 07740 | 250,000
Housing Authority of the City of Camden | 2120 Watson Street, 2nd Floor, Camden, NJ 08105 | 349,860
Housing Authority of the City of Paterson | 60 Van Houten Street, Paterson, NJ 07505 | 250,000
ACORN Tenant Union Tenant Organizing Project | 915 Charlston Boulevard, Las Vegas, NV 89104-1513 | 124,965
Municipal Housing Authority of the City of Schenectady | 375 Broadway, Schenectady, NY 12305 | 250,000
New Rochelle Municipal Housing Authority | 50 Sickles Avenue, New Rochelle, NY 10801-3416 | 250,000
New York City Housing Authority | 250 Broadway, New York, NY 10007 | 998,775
Syracuse Housing Authority | 516 Burt Street, Syracuse, NY 13202 | 350,000
ACORN Institute | 329 North 20th Street, Columbus, OH 43203 | 189,171
Akron Metropolitan Housing Authority | 100 West Cedar Street, Akron, OH 44307 | 500,000
Dayton Metropolitan Housing Authority | P.O. Box 8750, 400 Wayne Avenue, Dayton, OH 45401-8750 | 222,660
Oklahoma City Housing Authority | 1700 Northeast Fourth Street, Oklahoma City, OK 73117 | 350,000
Umatilla Reservation Housing Authority | 51 Umatilla Loop, Pendleton, OR 97801 | 250,000
Hazelton Housing Authority | 320 West Mine Street, Hazelton, PA 18201 | 247,020
Housing Authority of the County of Beaver | 300 State Street, Beaver, PA 15009 | 350,000
Philadelphia Housing Authority | 12 South 23rd Street, 6th Floor, Philadelphia, PA 19103 | 974,866
Puerto Rico Community Foundation | P.O. Box 70362, San Juan, PR 00936-8362 | 250,000
The Housing Authority of the City of Providence | 100 Broad Street, Providence, RI 02903 | 350,000
North Charleston Housing Authority | 2170 Ashley Phosphate Road, Suite 700, North Charleston, SC 29406 | 250,000
The Housing Authority of the City of Greenville, SC | 511 Augusta Street, Greenville, SC 29605 | 250,000
The Lakota Fund | P.O. Box 340 (The Trade Center, Suite 201), Kyle, SD 57752 | 250,000
Jackson Housing Authority | 125 Preston Street, Jackson, TN 38301 | 320,000
Kingsport Housing & Redevelopment Authority | P.O. Box 44, Kingsport, TN 37662 | 250,000
Memphis Housing Authority | 700 Adams Avenue, Memphis, TN 38105 | 350,000
Metropolitan Development and Housing Agency | 701 South Sixth Street, Nashville, TN 37206 | 500,000
Housing Authority of the City of Austin | P.O. Box 6159, Austin, TX 78762-6159 | 349,978
Housing Authority of the City of Belton, Texas | P.O. Box 708, 715 Saunders, Temple, TX 76513 | 111,240
Housing Authority of the City of Temple | P.O. Box 1326, 700 West Calhoun, Temple, TX 76503-1326 | 250,000
The Housing Authority of the City of Dallas, Texas (DHA) | 3939 North Hampton Road, Dallas, TX, 75212 | 500,000
The Housing Authority of the City of Fort Worth | 1201 East 13th Street, Fort Worth, TX 76102 | 350,000
Bristol Redevelopment and Housing Authority | 809 Edmond Street, Bristol, VA 24201 | 250,000
Danville Redevelopment and Housing Authority | 135 Jones Crossing, Danville, VA 24541 | 250,000
Pleasant View Tenant Association, Incorporated | 101 Pleasant View Avenue, Danville, VA 24541-3432 | 125,000
Roanoke Redevelopment and Housing Authority | 2624 Salem Turnpike, Northwest, Roanoke, VA 24017-3059 | 350,000
Housing Authority of the City of Tacoma | 902 South L Street, Tacoma, WA 98405 | 350,000
Housing Authority of the City of Vancouver | 2500 Main Street, Vancouver, WA, 98660 | 249,975
King County Housing Authority | 600 Andover Park West, Tukwila, WA, 98188-3326 | 350,000
Kitsap County Consolidated Housing Authority | 9307 Bayshore Drive, Northwest, Silverdale, WA 98383 | 250,000
Seattle Housing Authority | P.O. Box 19028, 120 Sixth Avenue North, Seattle, WA 98109-1028 | 349,940
Housing Authority of the City of Milwaukee | 809 North Broadway, Milwaukee, WI 53202 | 350,000
The Huntington West Virginia Housing Authority | 300 Seventh Avenue West, Huntington, WV 25701 | 250,000

[FR Doc. E8-26657 Filed 11-7-08; 8:45 am]

BILLING CODE 4210-67-P